DEPARTMENT OF DEFENSE

Department of the Army; Corps of Engineers

Intent To Prepare a Draft Environment Impact Statement for the Proposed Royal D'Iberville Casino and Hotel, Located in D'Iberville, Harrison County, MS

AGENCY: Army Corps of Engineers, DoD.

ACTION: Notice of intent.

SUMMARY: The U.S. Army Corps of Engineers, Mobile District (Corps), intends to prepare a Draft Environmental Impact Statement (DEIS) to address the potential impacts associated with the construction of the proposed Royal D'Iberville Casino and Hotel located on the Back Bay of Biloxi, in D'Iberville, Harrison County, Mississippi. The Corps will be evaluating a permit application for the work under the authority of Section 10 of the Rivers and Harbors and Section 404 of the Clean Water Act. The EIS will be used as a basis for the permit decision and to ensure compliance with the National Environmental Policy Act (NEPA).

FOR FURTHER INFORMATION CONTACT: Questions about the proposed action and the DEIS should be addressed to Mr. William R. Bunkley, Regulatory Branch, phone (251) 694-3780 or e-mail at william.r.bunkley@sam.usace.army.mil, or Dr. Susan Ivester Rees, Coastal Environmental Team, phone (251) 694-4141 or e-mail at susan.i.rees@sam.usace.army.mil, Mobile District, U.S. Army Corps of Engineers, P.O. Box 2288, Mobile, AL 36628-0001.

SUPPLEMENTARY INFORMATION: 1. The permit applicant is proposing to construct a casino development on the northern shore of the Bank Bay of Biloxi consisting on the following: A casino mooring facility to accommodate a 100,000 square foot floating casino barge, a concrete access pier, 450 linear feet of steel sheet pile bulkhead, four (4) 35-foot diameter steel, concrete filled, mooring caissons and connection apparatus that will withstand 155 m.p.h. wind speeds. Associated landside work includes the construction of any entry porte cochere, a 2500 space multi-level parking garage, and a 500-room hotel. Road improvements would include I-110/Rodriquez Street interchange, Boney Avenue, and Bay Shore Drive along the width of the project site. Additional would include a sewer lift station and a 6-inch force main from the casino to the D'Iberville sewage treatment facility, a new 700-gallon per minute (gpm) water well, and a new 300,000-gallon elevated water tank. Minimal impacts to vegetated wetlands are proposed. No other wetlands or “special aquatic sites” will be excavated or filled. Approximately 9 acres of uplands will be impacted by the proposed development.

2. Alternatives to the applicant's proposal may exist which would reduce the impacts to the Back Bay of Biloxi. These could include alternate sites, alternative site layouts or alternative operational methods.

3. Scoping:

a. The Corps invites full public participation to promote open communication on the issues surrounding the proposal. All Federal, State, and local agencies, and other persons or organizations that have an interest are urged to participate in the NEPA scoping process. A public meeting will be held to help identify significant issues and to receive public input and comment.

b. The DEIS will analyze the potential social, economic, and environmental impacts to the local area resulting from the proposed project. Specifically, the following major issues will be analyzed in depth in the DEIS: hydrologic and hydraulic regimes, essential fish habitat and other marine habitat, air quality, cultural resources, wastewater treatment capacities and discharges, transportation systems, alternatives, secondary and cumulative impacts, socioeconomics, environmental justice (effect on minorities and low-income groups), and protection of children (Executive Order 13045).

c. The Corps will serve as the lead Federal agency in the preparation of the DEIS. It is anticipated that the following agencies will be invited and will accept cooperating agency status for the preparation of the DEIS: U.S. Environmental Protection Agency. U.S. Department of the Interior, Fish and Wildlife Service, U.S. Department of Commerce, National Marine Fisheries Service, U.S. Department of Transportation, Federal Highway Administration.

4. The scoping meeting will be held on December 11, 2001 at the D'Iberville City Hall, Council Room, 10383 Automall Parkway, D'Iberville, MS beginning at 6:30 p.m.

5. It is anticipated that the DEIS will be made available for public review in spring 2001.

Luz D. Ortiz
Army Federal Register Liaison Officer.

[FR Doc. 01-29150 Filed 11-20-01; 8:45 am]

BILLING CODE 3710-CR-P